ENVIRONMENTAL PROTECTION AGENCY

40 CFR Part 82

[EPA-HQ-OAR-2008-0664; FRL-9095-6]

Protection of Stratospheric Ozone: New Substitute in the Motor Vehicle Air Conditioning Sector Under the Significant New Alternatives Policy (SNAP) Program

AGENCY: Environmental Protection Agency (EPA).

ACTION: Proposed rule; reopening of public comment period.

SUMMARY: EPA issued a proposed rule in the Federal Register of October 19, 2009, proposing to find HFO-1234yf acceptable, subject to use conditions as a substitute for CFC-12 in motor vehicle air conditioning. The proposed substitute is a non-ozone-depleting substance and consequently does not contribute to stratospheric ozone depletion. In response to requests from several stakeholders and to allow comments on new supporting materials, this action reopens the public comment period through February 1, 2010.

DATES: The comment period for the proposed rule published October 19, 2009 (74 FR 53445), is reopened. Comments, identified by docket identification (ID) number EPA-HQ-OAR-2008-0664, must be received on or before February 1, 2010.

ADDRESSES: Submit your comments to docket EPA-HQ-OAR-2008-0664 by one of the following methods:

Federal eRulemaking Portal: http://www.regulations.gov. Follow the on-line instructions for submitting comments.

E-mail: a-and-r-Docket@epa.gov.

Mail: Environmental Protection Agency. EPA Docket Center (EPA/DC), Mailcode 6102T, Attention Docket ID No. EPA-HQ-OAR-2008-0664, 1200 Pennsylvania Avenue, NW., Washington, DC 20460.

Hand Delivery: Public Reading Room, Room 3334, EPA West Building, 1301 Constitution Avenue, NW., Washington, DC. Such deliveries are only accepted during the Docket's normal hours of operation, and special arrangements should be made for deliveries of boxed information.

Instructions: Direct your comments to Docket ID No. EPA-HQ-OAR-2008-0664. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy.

Publicly available docket materials are available either electronically in http://www.regulations.gov or in hard copy at the Air Docket, EPA/DC, EPA West, Room 3334, 1301 Constitution Ave., NW., Washington, DC. This Docket Facility is open from 8:30 a.m. to 4:30 p.m., Monday through Friday, excluding legal holidays. The telephone number for the Public Reading Room is (202) 566-1744, and the telephone number for the Air Docket is (202) 566-1742.

FOR FURTHER INFORMATION CONTACT: Margaret Sheppard, Stratospheric Protection Division, Office of Atmospheric Programs; Environmental Protection Agency, Mail Code 6205J, 1200 Pennsylvania Ave., NW., Washington, DC 20460; telephone number: (202) 343-9163; fax number, (202)343-2338; e-mail address: sheppard.margaret@epa.gov. Notices and rulemakings under the SNAP program are available on EPA's Stratospheric Ozone Web site at http://www.epa.gov/ozone/snap/regulations.html. For copies of the full list of SNAP decisions in all industrial sectors, contact the EPA Stratospheric Protection Hotline at (800) 296-1996.

SUPPLEMENTARY INFORMATION:

Background

The statutory and regulatory background is described in detail in the Federal Register proposed rule of October 19, 2009 (74 FR 53445). In that document, EPA proposed to find HFO-1234yf acceptable as an alternative refrigerant for motor vehicle air conditioning, subject to use conditions. The refrigerant discussed in the proposed action, for which the comment period is reopened, is a non-ozone-depleting substance.

This Action

EPA has received a request for an extension to the December 18, 2009, comment deadline specified in the October 19, 2009, proposed rule.

This action reopens the comment period. The Agency will consider additional comments we receive through February 1, 2010 in response to this action. Note that additional information is available in the public docket, EPA-HQ-OAR-2008-0664, since publication of the October 19, 2009 proposed rule. EPA will also consider comments received by February 1, 2010 in response to the previous Federal Register publication [EPA-OAR-2008-0664] before issuing a final regulatory determination for HFO-1234yf. We intend to issue a regulatory determination as expeditiously as possible following consideration of the comments and information we receive.

Dated: December 18, 2009.
Janet G. McCabe,
Acting Assistant Administrator, Office of Air and Radiation.

[FR Doc. E9-30629 Filed 12-24-09; 8:45 am]

BILLING CODE 6560-50-P